SMALL BUSINESS ADMINISTRATION

[Disaster Declaration #14749 and #14750]

West Virginia Disaster Number WV-00043

AGENCY: U.S. Small Business Administration.

ACTION: Amendment 5.

SUMMARY: This is an amendment of the Presidential declaration of a major disaster for the State of West Virginia (FEMA-4273-DR), dated 06/25/2016.

Incident: Severe Storms, Flooding, Landslides, and Mudslides.

Incident Period: 06/22/2016 through 06/29/2016.

Effective Date: 07/06/2016.

Physical Loan Application Deadline Date: 09/07/2016.

EIDL Loan Application Deadline Date: 03/27/2017.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street SW., Suite 6050, Washington, DC 20416.

SUPPLEMENTARY INFORMATION: The notice of the President's major disaster declaration for the State of West Virginia, dated 06/25/2016 is hereby amended to extend the deadline for filing applications for physical damages as a result of this disaster to 09/07/2016.

All other information in the original declaration remains unchanged.

(Catalog of Federal Domestic Assistance Numbers 59002 and 59008)

James E. Rivera,
Associate Administrator for Disaster Assistance.

[FR Doc. 2016-20193 Filed 8-23-16; 8:45 am]

BILLING CODE 8025-01-P